DEPARTMENT OF ENERGY

Federal Energy Regulatory Commission

[Docket No. AD19-15-000]

Managing Transmission Line Ratings; Supplemental Notice of Technical Conference

As announced in the Notice of Technical Conference issued in this proceeding on June 28, 2019, the Federal Energy Regulatory Commission (Commission) will convene a staff-led technical conference in the above-referenced proceeding on Tuesday, September 10, 2019 from approximately 8:45 a.m. to 5:00 p.m., and Wednesday, September 11, 2019 from approximately 8:45 a.m. to 1:00 p.m. Eastern Time. The conference will be held in Hearing Room 1 at Commission headquarters, 888 First Street NE, Washington, DC 20426. Commissioners may attend and participate. The purpose of this conference is to discuss issues related to transmission line ratings, with a focus on dynamic and ambient-adjusted line ratings. In particular, this conference will explore what transmission line rating methodologies and related practices might constitute best practices, and what, if any, Commission action in these areas might be appropriate. There will be an opportunity to provide comments after the conference. A notice establishing a date when comments are due will be published after the conference.

The conference will be open for the public to attend in person, or to attend remotely via a webcast. Those who plan to attend the conference in person are encouraged to complete the registration form located at http://www.ferc.gov/whats-new/registration/09-10-19-form.asp. There is no registration deadline for in person attendees, but we strongly encourage attendees who are not citizens of the United States to register for the conference as soon as possible, in order to avoid any delay associated with being processed by FERC security. Those who plan to attend the conference remotely via webcast must register by 5:00 p.m. EST on September 3, 2019. The webcast may not be available to those who do not register.

Information on the technical conference (including a link to the webcast) will be posted on the Calendar of Events on the Commission's website, http://www.ferc.gov. The conference will be transcribed. Transcripts will be available immediately for a fee from Ace Reporting (202-347-3700).

Commission conferences are accessible under section 508 of the Rehabilitation Act of 1973. For accessibility accommodations, please send an email to accessibility@ferc.gov or call toll free 1-866-208-3372 (voice) or 202-502-8659 (TTY), or send a fax to 202-208-2106 with the required accommodations.

For more information about this technical conference, please contact:

Sarah McKinley (Logistical Information), Office of External Affairs, (202) 502-8004, Sarah.Mckinley@ferc.gov; Dillon Kolkmann (Technical Information), Office of Energy Policy and Innovation, (202) 502-8650, Dillon.Kolkmann@ferc.gov.

Dated: August 20, 2019.
Kimberly D. Bose,
Secretary.

[FR Doc. 2019-18292 Filed 8-23-19; 8:45 am]

BILLING CODE 6717-01-P